DEPARTMENT OF ENERGY

Federal Energy Regulatory Commission

[Docket No. CP99-94-000]

Florida Gas Transmission Company; Notice of Availability of the Final Environmental Impact Statement for the Proposed FGT Phase IV Expansion Project

January 28, 2000.

The staff of the Federal Energy Regulatory Commission (FERC or Commission) has prepared a Final Environmental Impact Statement (FEIS) on the natural gas pipeline facilities proposed by Florida Gas Transmission Company (FGT) in the above-referenced docket.

The FEIS was prepared to satisfy the requirements of the National Environmental Policy Act. The staff concludes that approval of the proposed project with the appropriate mitigating measures as recommended, would have limited adverse environmental impact. The FEIS also evaluates alternatives to the proposal, including system alternatives; major route alternatives; and route variations.

On December 1, 1998, FGT filed with FERC the original description of the proposed action for the FGT Phase IV Expansion Project. In May 1999, FGT filed modifications to the proposed route for several of the pipeline components.¹

¹ The FEIS provides a complete listing of the facilities which FGT withdrew from its application on August 23, 1999, including for example the New Smyrna Beach Lateral and its associated Duke Energy Meter Station.

The proposed action and the environment analysis in the FEIS are based on the May 1999 filing as affected by the August 23, 1999 deletions.

The FEIS addresses the potential environmental effects of the construction and operation of the following facilities:

A. Pipeline facilities:

1. In Mississippi, FGT proposes to construct 9.3 miles of 36-inch-diameter pipeline in George and Greene Counties (Mainline Loop-Mississippi).

2. In Florida, FGT proposes to construct:

a. 6.1 miles of 30-inch-diameter pipeline in Bradford County (Mainline Loop-Florida);

b. 4.57 miles of 12-inch-diameter pipeline in Manatee County (Sarasota Lateral Loop);

c. 0.84 mile of 6-inch-diameter pipeline in Polk County (Lake Wales Lateral Loop Extension);

d. 5.73 miles of 4-inch-diameter pipeline in Hillsborough County (Tampa South Lateral Extension); and

e. 113.0 miles of 30- and 26-inch-diameter pipeline, consisting of 75.3 miles of 30-inch-diameter pipeline in Hillsborough, Polk, Hardee, and DeSoto Counties, and 37.7 miles of 26-inch-diameter pipeline in DeSoto, Charlotte, and Lee Counties (West Leg Extension).

B. Compressor facilities:

1. In Florida, FGT proposes to:

a. add 10,350 hp of compression to the existing CS 12A in Santa Rosa County;

b. add 10,350 hp of compression to the existing CS 14A in Gadsden County;

c. construct a new 10,350 hp CS 24 in Gilchrist County; and

d. add 7,170 hp of compression to the existing CS 26 in Citrus County.

C. Associated aboveground facilities:

1. In Mississippi, FGT proposes to construct one mainline valve and one tie-on the Mainline Loop in Greene County.

2. In Florida, FGT proposes to construct:

a. The National Gypsum Meter Station in Hillsborough County, and the Florida Power and Light Company (FPL) Fort Myers Meter Station in Lee County; and

b. Miscellaneous facilities, including two tie-ins in Bradford County; two tie-ins in Manatee County; two tie-ins on the Lake Wales Lateral Loop Extension in Polk County; one tie-in on the Tampa South Lateral Extension in Hillsborough County; and on the West Leg Extension, one tie-in in Hillsborough County, one crossover in Polk County, two interconnections in Polk County, one tap valve and tie-in in Lee County, and eight mainline valves in Hillsborough, Polk, Hardee, DeSoto, and Charlotte Counties.

The purpose of the proposed FGT Phase IV Expansion Project is to deliver natural gas largely for electric power generation. The largest user, for which most of the proposed facilities would be constructed, is FPL for the existing Fort Myers Power Generating Station in Lee County, Florida. In addition, one natural gas local distribution company (LDC) and two industrial customers would be served with small quantities of natural gas.

The FEIS has been placed in the public files of the FERC and is available for public inspection at: Federal Energy Regulatory Commission, Public Reference and Files Maintenance Branch, 888 First Street, N.E., Room 2A, Washington, DC 20426, (202) 208-1371.

Copies of the FEIS have been mailed to Federal, state and local agencies, public interest groups, individuals who have requested the FEIS, newspapers, and parties to this proceeding.

In accordance with the Council on Environmental Quality's (CEQ) regulations implementing the National Environmental Policy Act, no agency decision on a proposed action may be made until 30 days after the U.S. Environmental Protection Agency publishes a notice of availability of an FEIS. However, the CEQ regulations provide an exception to this rule when an agency decision is subject to a formal internal appeal process which allows other agencies or the public to make their views known. In such cases, the agency decision may be made at the same time the notice of the FEIS is published, allowing both periods to run concurrently. The Commission decision for this proposed action is subject to a 30-day rehearing period.

Additional information about the proposed project is available from Paul McKee in the Commission's Office of External Affairs, at (202) 208-1088 or on the FERC Internet website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary

[FR Doc. 00-2378 Filed 2-2-00; 8:45am]

BILLING CODE 6717-01-M